DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 20, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Poultry 2025 Small Enterprise Study.

OMB Control Number: 0579-0260 (Reinstatement).

Summary of Collection: Collection and dissemination of animal and poultry health information is mandated by 7 U.S.C. 8301, The Animal Health Protection Act of 2002. Thus, the Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Health Monitoring System (NAHMS), which collects, on a national basis, statistically valid and scientifically sound data on the prevalence and economic importance of livestock and poultry diseases. During the Fall of 2025, NAHMS will conduct a national data collection for poultry through a national study, Poultry 2025 Small Enterprise.

Need and Use of the Information: Through the reinstatement of this information collection, APHIS will collect information using a questionnaire and the data will be important for establishing baseline health, management, and biosecurity information for U.S. small enterprise chicken broiler, table egg layer, and meat turkey operations. This information is important for producer preparedness and response for animal health emergencies, including highly pathogenic avian influenza (HPAI). The collected data will be used to: (1) Establish national and regional production measures for producer, veterinary, and industry references; (2) predict or detect national and regional trends in disease emergence and movement; (3) address emerging issues; (4) aid in disease preparedness; (5) evaluate biosecurity practices of small enterprise producers and determine what sort of informational resources may be most useful for this population; (6) provide estimates of both outcome (disease or other parameters) and exposure (risks and components) variables that can be used in analytic studies in the future by NAHMS; (7) provide input into the design of surveillance systems for specific diseases; and (8) provide parameters for animal disease spread models.

Without the aforementioned data, the U.S.' ability to establish baseline health, management, and biosecurity information for this portion of the poultry industry, and the ability to use that information in preparedness and response to HPAI would be reduced or nonexistent.

Description of Respondents: Business or other for-profit.

Number of Respondents: 5,525.

Frequency of Responses: Reporting: Other (four times).

Total Burden Hours: 2,872.

Rachelle Ragland-Greene,
Departmental Information Collection Clearance Officer.

[FR Doc. 2025-08983 Filed 5-19-25; 8:45 am]

BILLING CODE 3410-34-P